DEPARTMENT OF ENERGY

Federal Energy Regulatory Commission

[Docket No. PF08-19-000]

T.W. Phillips Pipeline Corporation; Notice of Intent To Prepare an Environmental Assessment for the Proposed Bionol Clearfield Pipeline Project and Request for Comments on Environmental Issues

July 24, 2008.

The staff of the Federal Energy Regulatory Commission (FERC or Commission) will prepare an environmental assessment (EA) that will address the environmental impacts of the Bionol Clearfield Pipeline Project proposed by T.W. Phillips Pipeline Corporation (Phillips). The Commission will use the EA in its decision-making process to determine whether or not to authorize the project. This notice explains the scoping process we ¹ will use to gather environmental input from the public and interested agencies on the projects. Your input will help the Commission determine the issues that need to be evaluated in the EA. Please note that the scoping period will close on August 25, 2008.

¹ “We,” “us,” and “our” refer to the environmental staff of the FERC's Office of Energy Projects.

Details on how to submit written comments are provided in the Public Participation section of this notice.

This Notice of Intent (NOI) to Prepare an Environmental Assessment for the proposed Bionol Clearfield Pipeline Project is being sent to federal, state, and local government agencies, elected officials, affected landowners, environmental and public interest groups, Native American tribes, other interested parties, and local libraries and newspapers. We encourage government representatives to notify their constituents of this planned project and encourage them to comment on their areas of concern.

If you are a landowner receiving this notice, you may be contacted by a pipeline company representative about the acquisition of an easement to construct, operate, and maintain the proposed project facilities. The pipeline company would seek to negotiate a mutually acceptable agreement for its project. However, if the project is approved by the Commission, that approval conveys with it the right of eminent domain. Therefore, if easement negotiations fail to produce an agreement, the pipeline company could initiate condemnation proceedings in accordance with state law.

A fact sheet prepared by the FERC entitled “An Interstate Natural Gas Facility on My Land? What Do I Need To Know?” is available for viewing on the FERC Internet Web site (http://www.ferc.gov). This fact sheet addresses a number of typically asked questions, including the use of eminent domain and how to participate in the FERC's proceedings.

Summary of the Proposed Project

Phillips proposes to construct, own, operate, and maintain certain natural gas transportation facilities within the Clearfield County, Pennsylvania. The general location of the proposed pipeline is shown in the figures included as Appendix 1.² The purpose of the project is to provide 12,500 dekatherms per day of firm transportation capacity for Bionol Clearfield, LLC's ethanol plant under construction in Clearfield, Pennsylvania.

² The appendices referenced in this notice are not being printed in the Federal Register. Copies of all appendices, other than Appendix 1 (maps), are available on the Commission's Web site at the “eLibrary” link or from the Commission's Public Reference Room, 888 First Street, NW., Washington, DC 20426, or call (202) 502-8371. For instructions on connectiing to eLibrary refer to the Public Participation section of this space. Copies of the appendices were sent to all those receiving this notice in the mail. Requests for detailed maps of the proposed facilities should be made directly to Phillips.

Phillips proposes to construct:

• 7.74 miles of 6-inch-diameter pipeline lateral from Columbia Gas Transmission Corporation's 16-inch-diameter pipeline to the Bionol Clearfield, LLC ethanol plant, all within the Clearfield County, Pennsylvania;

• A meter station at milepost (MP) 0.0

• A regulator station at MP 7.74; and

• Three mainline valves.

Work on the project is proposed to begin in April 2009 with the proposed in-service date for July 2009.

Land Requirements for Construction

Construction of the project would disturb about 90 acres of land. After construction Phillips would retain 49 acres as new permanent right-of-way.

Generally, the width of the proposed construction right-of-way would be 75 feet, consisting of the proposed new 50-foot-wide permanent right-of-way and a 25-foot-wide temporary right-of-way used for construction only. The construction right-of-way would be reduced in areas containing sensitive resources such as wetlands and stream banks. Work at the aboveground facilities (meter station, regulator station, and mainline valves) would take place within this proposed construction right-of-way.

Additional temporary extra workspaces beyond the typical construction right-of-way limits would be required at certain feature crossings (e.g., roads, railroads, wetlands, or waterbodies, utilities), in areas with steep side slopes, in areas requiring special construction techniques, and in areas needing topsoil segregation. In addition, one to three temporary pipe storage/contractor yards along the pipeline route would also be required. Phillips would access its project construction areas primarily along existing pipeline rights-of-way and existing roads; however, other temporary and permanent access roads would be required for construction and operation.

The EA Process

The National Environmental Policy Act (NEPA) requires the Commission to take into account the environmental impacts that could result from an action when it considers whether or not an interstate natural gas pipeline should be approved. The FERC will use the EA to consider the environmental impact that could result if the project is authorized under section 7 of the Natural Gas Act. NEPA also requires us to discover and address concerns the public may have about proposals to be considered by the Commission. This process is referred to as “scoping.” The main goal of the scoping process is to focus the analysis in the EA on the important environmental issues. With this NOI, the Commission staff is requesting public comments on the scope of the issues to be addressed in the EA. All comments received will be considered during preparation of the EA.

In the EA we will discuss impacts that could occur as a result of the construction and operation of the proposed project under these general headings:

• Geology and soils;

• Land use;

• Water resources, fisheries, and wetlands;

• Cultural resources;

• Vegetation and wildlife;

• Threatened and endangered species;

• Air quality and noise;

• Hazardous waste; and

• Public safety.

In the EA, we will also evaluate possible alternatives to the proposed project or portions of the project, and make recommendations on how to lessen or avoid impacts on affected resources.

Although no formal application has been filed, the FERC staff has already initiated its NEPA review under the FERC's Pre-filing Process. The purpose of the Pre-filing Process is to encourage the early involvement of interested stakeholders and to identify and resolve issues before an application is filed with the FERC.

With this NOI, we are asking federal, state, and local agencies with jurisdiction and/or special expertise with respect to environmental issues to formally cooperate with us in the preparation of the EA (see Appendix 2). These agencies may choose to participate once they have evaluated the proposal relative to their responsibilities. Additional agencies that would like to request cooperating agency status should follow the instructions in Appendix 2 of this NOI.

Currently Identified Environmental Issues

We have already identified several issues that we think deserve attention based on a preliminary review of the proposed facilities and the environmental information provided by Phillips. This preliminary list of issues may be changed based on your comments and our analysis.

• Federally listed threatened and endangered species are present in the project area.

• Pipeline route variations will be studied.

• Riparian vegetation associated with the horizontal directional drill crossing of Clearfield Creek.

Public Participation

You can make a difference by providing us with your specific comments or concerns about the Bionol Clearfield Pipeline Project. Your comments should focus on the potential environmental effects, reasonable alternatives, and measures to avoid or lessen environmental impacts. The more specific your comments, the more useful they will be. To ensure that your comments are timely and properly recorded, please send in your comments so that they will be received in Washington, DC, on or before August 25, 2008.

For your convenience, there are three methods which you can use to submit your comments to the Commission. In all instances please reference the project docket number PF08-19-000 with your submission. The Commission encourages electronic filing of comments and has dedicated eFiling expert staff available to assist you at 202-502-8258 or efiling@ferc.gov.

(1) You may file your comments electronically by using the Quick Comment feature, which is located on the Commission's Internet Web site at http://www.ferc.gov under the link to Documents and Filings. A Quick Comment is an easy method for interested persons to submit text-only comments on a project;

(2) You may file your comments electronically by using the eFiling feature, which is located on the Commission's Internet Web site at http://www.ferc.gov under the link to Documents and Filings. eFiling involves preparing your submission in the same manner as you would if filing on paper, and then saving the file on your computer's hard drive. You will attach that file as your submission. New eFiling users must first create an account by clicking on “Sign up” or “eRegister.” You will be asked to select the type of filing you are making. A comment on a particular project is considered a “Comment on a Filing;” or

(3) You may file your comments via mail to the Commission by sending an original and two copies of your letter to: Kimberly D. Bose, Secretary, Federal Energy Regulatory Commission, 888 First St., NE., Room 1A, Washington, DC 20426.

Label one copy of the comments for the attention of Gas Branch 2, PJ11.2.

Environmental Mailing List

We may mail the EA for public comment. If you are interested in receiving it, please return the Mailing List Retention Form (Appendix 3). If you do not return the Mailing List Retention Form, you will be taken off the mailing list.

Additional Information

Additional information about the project is available from the Commission's Office of External Affairs, at 1-866-208-FERC (3372) or on the FERC Internet Web site (http://www.ferc.gov) using the “eLibrary link.” Click on the eLibrary link, select “General Search” and enter the project docket number excluding the last three digits (PF08-17) in the “Docket Number” field. Be sure you have selected an appropriate date range. For assistance, please contact FERC Online Support at FERCOnlineSupport@ferc.gov or toll free at 1-866-208-3676, or TTY, contact (202) 502-8659. The eLibrary link on the FERC Internet Web site also provides access to the texts of formal documents issued by the Commission, such as orders, notices, and rule makings.

In addition, the FERC now offers a free service called eSubscription that allows you to keep track of all formal issuances and submittals in specific dockets. This can reduce the amount of time you spend researching proceedings by automatically providing you with notification of these filings, document summaries, and direct links to the documents. To register for this service, go to http://www.ferc.gov/esubscribenow.htm.

Phillips will establish an Internet Web site for the Bionol Clearfield Pipeline Project in the near future, which would include contact information and information about its proposed project.

Kimberly D. Bose,
Secretary.

[FR Doc. E8-17494 Filed 7-30-08; 8:45 am]

BILLING CODE 6717-01-P